DEPARTMENT OF HEALTH AND HUMAN SERVICES

Administration for Children and Families

[CFDA Number: 93.676]

Announcement of the Award of Five Single-Source Low-Cost Extension Supplement Grants Within the Office of Refugee Resettlement's Unaccompanied Children's Program

AGENCY: Office of Refugee Resettlement (ORR), Administration for Children and Families (ACF), U.S. Department of Health and Human Services (HHS).

ACTION: Notice of award of five single-source low-cost extension supplement grants under the Unaccompanied Children's (UC) Program.

SUMMARY: ACF, ORR, announces the award of five single-source low-cost extension supplement grants for a total of $19,604,765 under the UC Program.

DATES: Low-cost extension supplement grants will support activities from October 1, 2016, through December 31, 2016.

FOR FURTHER INFORMATION CONTACT: Jallyn Sualog, Director, Division of Children's Services, Office of Refugee Resettlement, 330 C Street SW., Washington, DC 20201. Email: DCSProgram@acf.hhs.gov.

SUPPLEMENTARY INFORMATION: The following supplement grants will support the immediate need for additional capacity of shelter services to accommodate the increasing number of UC referred by the Department of Homeland Security (DHS) into ORR care. The increase in the UC population makes it necessary to expand the services to expedite the release of UC to designated sponsors. To prepare for an increase in referrals for shelter services, ORR will solicit proposals from one grantee to accommodate the referrals from DHS.

Grant No. | Grantee | Shelter current funding ending 9/30/16 | Low-cost extension 10/1/16- 12/31/16
Texas | International Educational Services, Inc. | $27,082,262 | $6,926,653
Texas | International Educational Services, Inc. | 15,451,597 | 6,701,163
Texas | International Educational Services, Inc. | 6,180,591 | 1,582,169
Texas | International Educational Services, Inc. | 8,269,202 | 2,057,311
Texas | International Educational Services, Inc. | 9,148,344 | 2,337,469
Total |  | 66,131,996 | 19,604,765

ORR is continuously monitoring its capacity to provide post-release services to UC in HHS custody.

ORR has specific requirements for the provision of services. Award recipients must have the infrastructure, licensing, experience, and appropriate level of trained staff to meet those requirements. The expansion of the existing post-release services program through this supplemental award is a key strategy for ORR to be prepared to meet its responsibility of safe and timely release of UC referred to its care by DHS. It also lets the U.S. Border Patrol continue its vital national security mission to prevent illegal migration and trafficking and protect the borders of the United States.

Statutory Authority: This program is authorized by—

(A) Section 462 of the Homeland Security Act of 2002, which in March 2003, transferred responsibility for the care and custody of UC from the Commissioner of the former Immigration and Naturalization Service to the Director of ORR in HHS.

(B) The Flores Settlement Agreement, Case No. CV85-4544RJK (C. D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

Christopher Beach,
Senior Grants Policy Specialist, Division of Grants Policy, Office of Administration, Administration for Children and Families.

[FR Doc. 2016-29326 Filed 12-6-16; 8:45 am]

BILLING CODE 4184-45-P